DEPARTMENT OF DEFENSE

Office of the Secretary

[Transmittal No. 22-28]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 22-28 with attached Policy Justification and Sensitivity of Technology.

Dated: May 15, 2024.
Aaron T. Siegel,
Alternate OSD Federal Register Liaison Officer, Department of Defense.

BILLING CODE 6001-FR-P

BILLING CODE 6001-FR-C

Transmittal No. 22-28

Notice of Proposed Issuance of Letter of Offer Pursuant to Section 36(b)(1) of the Arms Export Control Act, as amended

(i) Prospective Purchaser: Government of Australia

(ii) Total Estimated Value:

Major Defense Equipment * | $350 million
Other | $ 35 million
TOTAL | $385 million

(iii) Description and Quantity or Quantities of Articles or Services under Consideration for Purchase:

Major Defense Equipment (MDE):

Twenty (20) M142 High Mobility Artillery Rocket System (HIMARS)

Thirty (30) M30A2 Guided Multiple Launch Rocket System (GMLRS)

Thirty (30) Alternative Warhead (AW) Pods with Insensitive Munitions Propulsion Systems (IMPS)

Thirty (30) M31A2 GMLRS Unitary (GMLRS-U) High Explosive Pods with IMPS

Thirty (30) XM403 Extended Range (ER)-GMLRS AW Pods

Thirty (30) EM404 ER GMLRS Unitary Pods

Ten (10) M57 Army Tactical Missile System (ATACMS)

Non-MDE:

Also included are Reduced Range Practice Rocket Pods (RRPRP); Vehicular Intercom System (AN/VIC-3) 3-Station; radio communication mounts; machine gun mounts; battle management system vehicle integration kits; wheel guards; ruggedized laptops; training equipment publications; spare and repair parts; support equipment; tools; test equipment; technical data; U.S. Government and Contractor support; technical and logistical support services; and other related elements of program and logistic support.

(iv) Military Department: Army (AT-B-UMK)

(v) Prior Related Cases, if any: AT-B-UMJ, AT-B-UKI

(vi) Sales Commission, Fee, etc., Paid, Offered, or Agreed to be Paid: None known at this time

(vii) Sensitivity of Technology Contained in the Defense Article or Defense Services Proposed to be Sold: See Attached Annex

(viii) Date Report Delivered to Congress: May 26, 2022

*As defined in Section 47(6) of the Arms Export Control Act.

POLICY JUSTIFICATION

Australia—HIMARS Launchers

The Government of Australia has requested to buy twenty (20) M142 High Mobility Artillery Rocket Systems (HIMARS); thirty (30) M30A2 Guided Multiple Launch Rocket Systems (GMLRS); thirty (30) Alternative Warhead (AW) Pods with Insensitive Munitions Propulsion Systems (IMPS); thirty (30) M31A2 GMLRS Unitary (GMLRS-U) High Explosive Pods with IMPS; thirty (30) XM403 Extended Range (ER)-GMLRS AW Pods; thirty (30) EM404 ER GMLRS Unitary Pods; and ten (10) M57 Army Tactical Missile System (ATACMS). Also included are Reduced Range Practice Rocket Pods (RRPRP); Vehicular Intercom System (AN/VIC-3) 3-Station; radio communication mounts; machine gun mounts; battle management system vehicle integration kits; wheel guards; ruggedized laptops; training equipment publications; spare and repair parts; support equipment; tools; test equipment; technical data; U.S. Government and Contractor support; technical and logistical support services; and other related elements of program and logistic support. The total estimated program cost is $385 million.

This proposed sale will support the foreign policy and national security objectives of the United States. Australia is one of our most important allies in the Western Pacific. The strategic location of this political and economic power contributes significantly to ensuring peace and economic stability in the region. It is vital to the U.S. national interest to assist our ally in developing and maintaining a strong and ready self-defense capability.

The proposed sale will improve Australia's capability to meet current and future threats, and will enhance interoperability with U.S. forces and other allied forces. Australia will use the capability to strengthen its homeland defense and provide greater security for its critical infrastructure. Australia will have no difficulty absorbing this equipment into its armed forces.

The proposed sale of this equipment and support will not alter the basic military balance in the region.

The principal contractors will be Lockheed Martin Inc., Bethesda, MD; Chelton Inc., Marlow, United Kingdom; and L3 Harris Corp., Melbourne, FL. The purchaser typically requests offsets. Any offset agreement will be defined in negotiations between the purchaser and the contractor(s).

Implementation of this proposed sale will require the assignment of two (2) U.S. Government and five (5) U.S. contractor representatives in Australia for a period of one year.

There will be no adverse impact on U.S. defense readiness as a result of this proposed sale.

Transmittal No. 22-28

Notice of Proposed Issuance of Letter of Offer Pursuant to Section 36(b)(1) of the Arms Export Control Act

Annex

Item No. vii

(vii) Sensitivity of Technology:

1. The M142 High Mobility Artillery Rocket System (HIMARS) is a C-130 transportable wheeled launcher mounted on a 5-ton Family of Medium Tactical Vehicles truck chassis. HIMARS is the modern Army-fielded version of the Multiple Launch Rocket System (MLRS) M270 launcher, and can fire all of the MLRS Family of Munitions (FOM) including Guided Multiple Launch Rocket System (GMLRS) variants and the Army Tactical Missile System (ATACMS). Utilizing the MLRS FOM, the HIMARS can engage targets between 15 and 300 kilometers with Global Positioning System (GPS)-aided precision accuracy.

2. The M31A2 GMLRS Unitary is the Army's primary munition for units fielding the M142 HIMARS and M270Al MLRS Launchers. The M31 Unitary is a solid propellant artillery rocket that uses GPS/Precise Positioning Service (PPS)-aided inertial guidance to accurately and quickly deliver a single high-explosive blast fragmentation warhead to targets at ranges from 15-70 kilometers. The rockets are fired from a launch pod container that also serves as the storage and transportation container for the rockets. Each rocket pod holds six (6) total rockets.

3. The M30A2 GMLRS Alternative Warhead shares a greater than 90% commonality with the M31A1 Unitary. The primary difference between the GMLRS-U and GMLRS-AW is the replacement of the Unitary's high explosive warhead with a 200-pound fragmentation warhead of pre-formed tungsten penetrators which is optimized for effectiveness against large area and imprecisely located targets. The munitions otherwise share a common motor, GPS/PPS-aided inertial guidance and control system, fusing mechanism, multi-option height of burst capability, and effective range of 15-70km.

4. The M57 ATACMS-Unitary is a conventional, semi-ballistic missile that utilizes a 500-pound high explosive warhead. It has an effective range of between 70 and 300 kilometers, and has increased lethality and accuracy over previous versions of the ATACMS due to a GPS/PPS aided navigation system.

5. The Extended Range (ER) GMLRS provides a persistent, responsive, all-weather, rapidly deployed, long range, surface-to surface, area- and point-precision strike capability. The XM403 Alternative Warhead (AW) carries a 200- pound fragmentation assembly filled with high explosives which, upon detonation, accelerates two layers of preformed penetrators optimized for effectiveness against large area and imprecisely located targets. The XM404 Unitary variant is a 200-pound class unitary with a steel blast-fragmentation case, designed for low collateral damage against point targets. The ER GMLRS maintains the accuracy and effectiveness demonstrated by the baseline GMLRS out to a maximum range of 150 km while also including a new Height of Burst (HOB) capability.

6. The highest level of classification of defense articles, components, and services included in this potential sale is SECRET.

7. If a technologically advanced adversary were to obtain knowledge of the specific hardware and software elements, the information could be used to develop countermeasures that might reduce weapon system effectiveness or be used in the development of a system with similar or advanced capabilities.

8. A determination has been made that Australia can provide substantially the same degree of protection for the sensitive technology being released as the U.S. Government. This sale is necessary in furtherance of the U.S. foreign policy and national security objectives outlined in the Policy Justification.

9. All defense articles and services listed in this transmittal have been authorized for release and export to the Government of Australia.

[FR Doc. 2024-11038 Filed 5-20-24; 8:45 am]

BILLING CODE 6001-FR-P